DEPARTMENT OF LABOR

Employment and Training Administration

[TA-W-41,213]

VF Playwear, Inc., Corporate Headquarters, Greensboro, NC; Notice of Termination of Investigation

Pursuant to section 221 of the Trade Act of 1974, an investigation was initiated on April 1, 2002 in response to a petition that was filed by a company official on behalf of workers at VF Playwear, Inc., Corporate Headquarters, Greensboro, North Carolina.

An active certification covering the petitioning group of workers is already in effect (TA-W-39,884, as amended). Consequently, further investigation in this case would serve no purpose, and the investigation has been terminated.

Signed in Washington, DC this 25th day of April, 2002.
Linda G. Poole,
Certifying Officer, Division of Trade Adjustment Assistance.

[FR Doc. 02-14791 Filed 6-11-02; 8:45 am]

BILLING CODE 4510-30-P